DEPARTMENT OF HEALTH AND HUMAN SERVICES

Centers for Disease Control and Prevention

Notice of Award of Unsolicited Proposal

A. Purpose

The Centers for Disease Control and Prevention (CDC) announces the award of Fiscal Year 2001 funds in the amount of $42,140 for a one-year research grant entitled “International Pooled Analysis of Lead-Exposed Cohorts.” The recipient is Children's Hospital Research Foundation, Division of General Pediatrics, 3333 Burnet Avenue, Cincinnati, Ohio 45229-3039. Performance Period: September 30, 2001 through September 29, 2002.

This grant addresses the “Healthy People 2010” focus area of Environmental Health. The purpose of the program is to examine lead-associated cognitive deficits below 10 μg/dL.

B. Where To Obtain Additional Information

To obtain business management technical assistance, contact: Sharron Orum, Lead Grants Management Specialist, Grants Management Branch, Procurement and Grants Office, Centers for Disease Control and Prevention, 2920 Brandywine Road, Room 3000, Atlanta, GA 30341-4146, Telephone number: (770) 488-2716, FAX: (770) 488-2777, Email address: spo2@cdc.gov.

For program technical assistance, contact: Pamela Meyer, Epidemiologist, Division of Environmental Hazards and Health Effects, Air Pollution and Respiratory Health Branch, National Center for Environmental Health, Centers for Disease Control and Prevention, Executive Park, Building 6, Room 1043, Mailstop E-17, Atlanta, GA 30333, Telephone number: (770) 498-1015, FAX: (770) 498-1088, Email address: PMeyer@cdc.gov.

Dated: October 16, 2001.
Rebecca B. O'Kelley,
Acting Director, Procurement and Grants Office, Centers for Disease Control and Prevention.

[FR Doc. 01-26518 Filed 10-19-01; 8:45 am]

BILLING CODE 4163-18-P